DEPARTMENT OF HOUSING AND URBAN DEVELOPMENT

[Docket No. FR-5382-N-09]

Notice of Proposed Information Collection for Public Comment: 202 Demonstration Planning Grant Evaluation

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: July 6, 2010.

ADDRESSES: Interested persons are invited to submit comments regarding this proposal. Comments should refer to the proposal by name and/or OMB Control Number and should be sent to: Ashaki Robinson Johns, Office of Policy Development and Research, Department of Housing and Urban Development, 451 7th Street, SW., Suite 8120, Washington, DC 20410.

FOR FURTHER INFORMATION CONTACT: Ashaki Robinson Johns (202) 402-7545, (this is not a toll free number) for copies of the proposed forms and other available documents.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond; including through the use of appropriate automated collection techniques or other forms of information technology, e.g., permitting electronic submission of responses.

Title of Proposal: Research Plan for an Evaluation of the Section 202 Demonstration Planning Grant Program.

Description of the need for information and proposed use: The Department is conducting, through a contract to Abt Associates Inc. and its subcontractor, VIVA Consulting LLC, a study of the Section 202 Supportive Housing for the Elderly Demonstration Planning Grant Program. The Section 202 Supportive Housing for the Elderly program provides capital advances and operating funds to nonprofit organizations (“sponsors”) to develop affordable elderly housing. HUD's goal for Section 202 properties is for sponsors to reach initial closing within 18 months of fund reservation. However, a 2003 study of the Section 202 program by the Governmental Accountability Office (GAO) found that approximately 70 percent of Section 202 properties funded between 1998 and 2009 did not meet this goal and that properties that did not meet the 18-month timeline took an average of 29 months to reach initial closing. The predevelopment delays were attributed to a number of factors, including the lack of predevelopment funding.

The Section 202 Demonstration Planning Grant Program (DPG) was created in 2004 to provide predevelopment funding to Section 202 sponsors to reduce development delays and increase the number of affordable rental units made available each year for low-income elderly households. This evaluation will assess the awareness and effectiveness of the program through telephone surveys with project sponsors. The key research question is whether the DPG helps sponsors get from Section 202 award to initial closing on the project within 18 months, HUD's target duration for the predevelopment period.

To collect the information necessary for this study, the Department will conduct a telephone survey of staff members from a sample of sponsor organizations. The surveys will be conducted with both staff from sponsor organizations that have received Demonstration Planning Grants (“DPG recipients”) and staff from sponsor organizations that have received Section 202 funding between fiscal years 2004 and 2008 but have not received a Demonstration Planning Grant (“non-recipients”). Surveys will be conducted with 70 DPG recipients and 30 non-recipients. The samples will be selected purposively to provide geographic diversity by Census region and a range of durations of predevelopment periods.

DPG recipients will be asked about their knowledge of and experience with the DPG program and how the DPG and other factors influenced their ability to reach initial closing within 18 months. Non-recipients will be asked about their familiarity with the DPG program, the reasons they did not apply for the program, and the factors that contributed to their ability to reach initial closing within 18 months.

Members of Affected Public: The telephone sponsor survey will affect approximately 100 recipients of a Section 202 Supportive Housing for the Elderly grant.

Estimation of the total number of hours needed to prepare the information collection including number of respondents, frequency of response, and hours of response: For the DPG recipient survey, the researchers will administer a one-time telephone survey to 70 sponsor staff. These interviews are expected to last 60 minutes for a total burden hour estimate of 70 hours. For the non-recipient survey, the researchers will administer a one-time telephone survey to 30 sponsor staff. The non-recipient interviews are expected to last 30 minutes for a total burden hour estimate of 15 hours.

Respondents | Number of respondents | Number responses per respondent | Average burden/response (in hours) | Total burden hours
DPG Recipients | 70 | 1 | 1.0 | 70
Non-recipients | 30 | 1 | 0.5 | 15
Total | 100 | 100 |  | 85

Status of the proposed information collection: Pending OMB approval.

Authority: Section 3506 of the Paperwork Reduction Act of 1995, 44 U.S.C. Chapter 35, as amended.

Dated: April 28, 2010.
Raphael W. Bostic,
Assistant Secretary for Policy Development and Research.

[FR Doc. 2010-10689 Filed 5-5-10; 8:45 am]

BILLING CODE 4210-67-P